DEPARTMENT OF DEFENSE

Department of the Navy

Notice of Availability of Record of Decision for the Final Environmental Impact Statement for Military Readiness Activities at the Naval Weapons Systems Training Facility Boardman, Oregon

AGENCY: Department of the Navy, DoD.

ACTION: Notice.

SUMMARY: The Department of the Navy (DoN), after carefully weighing the strategic, operational, and environmental consequences of the proposed action, announces its decision to continue and enhance training and testing activities as identified in Alternative 2 in the Final Environmental Impact Statement for Military Readiness Activities at the at Naval Weapons Systems Training Facility Boardman, Oregon. This alternative provides for the construction and operation of new range facilities and other enhancements, and increases in training and testing activities. Alternative 2 also includes a proposal to establish new special use airspace in the form of a Military Operations Area (MOA), including the Boardman Low MOA and an extension to the existing Boardman MOA, both to the northeast of NWSTF Boardman. Implementation of Alternative 2 will enable the DoN to achieve the levels of operational readiness required under Section 5062 Title 10 U.S.C. without resulting in significant environmental impacts.

SUPPLEMENTARY INFORMATION: The complete text of the Record of Decision is available at http://www.NWSTFBoardmanEIS.com and at the following public library locations: Multnomah County Central, Salem Central, West Salem, Oregon Trail Heppner, Oregon Trail Boardman and the Stafford Hansell Government Center. Single copies of the Record of Decision are available upon request by contacting: NWSTF Boardman EIS Project Manager, Naval Facilities Engineering Command Northwest, 1101 Taugtog Circle, Suite 203, Silverdale, Washington 98315-1101.

Dated: April 5, 2016.
C. Pan
Lieutenant, Judge Advocate General's Corps, U.S. Navy, Alternate Federal Register Liaison Officer.

[FR Doc. 2016-08130 Filed 4-7-16; 8:45 am]

BILLING CODE 3810-FF-P